ENVIRONMENTAL PROTECTION AGENCY

[EPA-HQ-OPP-2024-0061; FRL-11680-12-OCSPP]

Pesticide Product Registration; Receipt of Applications for New Uses (December 2024)

AGENCY: Environmental Protection Agency (EPA).

ACTION: Notice of receipt and request for comment.

SUMMARY: This document announces the Agency's receipt of applications to register new uses for pesticide products containing currently registered active ingredients. EPA is hereby providing notice of receipt and opportunity to comment on these applications.

DATES: Comments must be received on or before March 26, 2025.

ADDRESSES: Submit your comments, identified by docket identification (ID) number EPA-HQ-OPP-2024-0061, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Registration Division (RD) (7505T), main telephone number: (202) 566-1030, email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What is the Agency's authority for taking this action?

EPA is taking this action pursuant to section 3(c)(4) of the Federal Insecticide, Fungicide, and Rodenticide Act (FIFRA), 7 U.S.C. 136a(c)(4), and 40 CFR 152.102.

C. What action is the Agency taking?

EPA is hereby providing notice of receipt and opportunity to comment on the applications identified in Unit II. Notice of receipt of these applications does not imply a decision by the Agency on these applications. For actions being evaluated under EPA's public participation process for registration actions, there will be an additional opportunity for public comment on the proposed decisions. Please see EPA's public participation website for additional information on this process (https://www.epa.gov/registration/public-participation-process-registration-actions).

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

II. Registration Applications Received

This unit provides the following information about the applications received during this period: The EPA File Symbol or Registration number(s); EPA docket ID number for the application; Name and address of the applicant; Name of the active ingredient, product type and proposed uses; and the division to contact for that application. Additional information about the application may also be available in the related docket for the application as identified in this unit.

• EPA Registration Number: 100-1467, 100-1462, 100-1463, and 100-1465. Docket ID number: EPA-HQ-OPP-2024-0415. Applicant: Syngenta Crop Protection, LLC, P.O. Box 18300, Greensboro, NC 27419-8300. Active ingredient: Bicyclopyrone. Product type: Herbicide. Proposed use: Bicyclopyrone-resistant soybean. Contact: RD.

2. EPA Registration Number: 7969-275. Docket ID number: EPA-HQ-OPP-2024-0323. Applicant: BASF Corporation, 26 Davis Drive, P.O. Box 13528, Research Triangle Park, NC 27709. Active ingredient: Saflufenacil. Product type: Herbicide. Proposed use: Field pennycress. Contact: RD.

• EPA Registration Number: 7969-278. Docket ID number: EPA-HQ-OPP-2024-0323. Applicant: BASF Corporation, 26 Davis Drive, P.O. Box 13528, Research Triangle Park, NC 27709. Active ingredient: Saflufenacil. Product type: Herbicide. Proposed use: Harvest aid/desiccation in field pennycress. Contact: RD.

• EPA Registration Number: 7969-502. Docket ID number: EPA-HQ-OPP-2024-0323. Applicant: BASF Corporation, 26 Davis Drive, P.O. Box 13528, Research Triangle Park, NC 27709. Active ingredient: Saflufenacil. Product type: Herbicide. Proposed use: Early post emergent application to popcorn and sweet corn (at spiking up to the V8 growth stage), and soybean (at VE stage up to the V6 stage). Contact: RD.

• EPA Registration Number: 71512-24 and 71512-25. Docket ID number: EPA-HQ-OPP-2024-0239. Applicant: ISK Biosciences Corporation, 7470 Auburn Road, Suite A, Concord, Ohio 44077. Active ingredient: Pyriofenone. Product type: Fungicide. Proposed use: Apples and cherry subgroup 12-12A. Contact: RD.

Authority: 7 U.S.C. 136 et seq.

Dated: February 14, 2025.
Kimberly Smith,
Acting Director, Information Technology and Resources Management Division, Office of Program Support.

[FR Doc. 2025-02990 Filed 2-21-25; 8:45 am]

BILLING CODE 6560-50-P